DEPARTMENT OF COMMERCE

National Oceanic and Atmospheric Administration

[RTID 0648-XC442]

Fisheries of the South Atlantic, Gulf of Mexico, and Caribbean; Southeast Data, Assessment, and Review (SEDAR) Public Meeting

AGENCY: National Marine Fisheries Service (NMFS), National Oceanic and Atmospheric Administration (NOAA), Commerce.

ACTION: Notice of SEDAR Procedural Workshop 8: Fishery Independent Index Development under Changing Survey Design.

SUMMARY: The SEDAR Procedural Workshop 8 for Fishery Independent Index Development will consist of a series of webinars, and an in-person workshop. See SUPPLEMENTARY INFORMATION.

DATES: The SEDAR Procedural Workshop 8 will be held Wednesday, November 2, 2022, from 9 a.m. until 5 p.m., Eastern; Thursday, November 3, 2022, from 9 a.m. until 5 p.m., Eastern; and Friday, November 4, 2022, from 9 a.m. until 3 p.m., Eastern. The established times may be adjusted as necessary to accommodate the timely completion of discussion relevant to the SEDAR process. Such adjustments may result in the meeting being extended from or completed prior to the time established by this notice.

ADDRESSES:

Meeting address: The SEDAR Procedural Workshop 8 meeting will be held at the Gulf of Mexico Fishery Management Council Office, 4107 West Spruce Street Suite 200, Tampa, FL 33607; phone: (888) 833-1844.

SEDAR address: 4055 Faber Place Drive, Suite 201, N. Charleston, SC 29405; www.sedarweb.org.

FOR FURTHER INFORMATION CONTACT: Julie A. Neer, SEDAR Program Manager, 4055 Faber Place Drive, Suite 201, North Charleston, SC 29405; phone: (843) 571-4366 or toll free: (866)/SAFMC-10; fax: (843) 769-4520; email: Julie.neer@safmc.net.

SUPPLEMENTARY INFORMATION: SEDAR procedural workshops provide an opportunity for focused discussion and deliberation on topics that arise in multiple assessments and are structured to develop best practices for addressing common issues across assessments. The SEDAR Steering Committee agreed that previously completed procedural workshops were effective and that similar workshops should be held to address other issues that affect multiple assessments. Continuing to address such global issues is recognized as important to continuing improvements in efficiency and quality.

The 8th procedural workshop will consider methods of addressing the development for fishery-independent indices of abundance under changing survey designs. Participants will prepare a SEDAR procedures document addressing their recommendations that will be used to guide future SEDAR assessments.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SEDAR office (see ADDRESSES) at least 5 business days prior to the meeting.

Note: The times and sequence specified in this agenda are subject to change.

Authority: 16 U.S.C. 1801 et seq.

Dated: October 11, 2022.
Rey Israel Marquez,
Acting Deputy Director, Office of Sustainable Fisheries, National Marine Fisheries Service.

[FR Doc. 2022-22389 Filed 10-13-22; 8:45 am]

BILLING CODE 3510-22-P